DEPARTMENT OF THE INTERIOR

National Park Service

Submission of Study Package to Office of Management and Budget; Review Opportunity for Public Comment

AGENCY: Department of the Interior, National Park Service; Glacier National Park.

ACTION: Notice and request for comments.

ABSTRACT: Later in 2001, the National Park Service (NPS) is proposing to conduct a mail-out/mail-back survey of businesses in the Glacier National Park area, which comprises three counties in Montana (Lake, Glacier and Flathead) plus some communities in southwest Alberta, Canada. Survey results will provide information from business managers about (a) the business' reliance on tourism by season; (b) perceived business impact during rehabilitation of Going-to-the-Sun Road; (c) recommended mitigation strategies, and; (d) the size and ownership of the business. The information will be used to develop the forthcoming socioeconomic impact analysis and mitigation strategies to minimize any potential negative impact during road rehabilitation.

The estimated number of responses is 5,340. At an average of 15 minutes to complete the self-administered survey, the expected burden is 1,335 hours.

SUMMARY: Under the provisions of the Paperwork Reduction Act of 1995 and 5 CFR part 1320, Reporting and Record Keeping Requirements, the NPS invites public comment on this proposed information collection request (ICR). Comments are invited on: (1) The need for the information including whether the information has practical utility; (2) the accuracy of the reporting burden estimate; (3) ways to enhance the quality, utility, and clarity of the information to be collected; and (4) ways to minimize the burden of the information collection on respondents, including the use of automated collection techniques or other forms of information technology.

The NPS goal in conducting this survey is to collect information that aids in assessing the potential socio-economic impacts of rehabilitation alternatives for Going-to-the-Sun Road. Direct responses from local businesses will provide quality information upon which to develop reliable analyses.

There were no public comments received as a result of publishing in the Federal Register a 60-day notice of intention to request clearance of information collection for this survey.

DATES: Public comments will be accepted on or before May 29, 2001.

SEND COMMENTS TO: Office of Information and Regulatory Affairs of OMB, Attention Desk Officer for the Interior Department, Office of Management and Budget, Washington, DC 20503.

The OMB has up to 60 days to approve or disapprove the information collection but may respond after 30 days. Therefore, to ensure maximum consideration, OMB should receive public comments within thirty days from the date listed at the top of this page in the Federal Register.

FOR FURTHER INFORMATION OR A COPY OF THE STUDY PACKAGES SUBMITTED FOR OMB REVIEW, CONTACT: Fred Babb Voice: 406-888-7976; Email: fred_babb@nps.gov.

SUPPLEMENTARY INFORMATION: Title: Survey of Businesses in the Glacier National Park Area.

Bureau Form Number: None.

OMB Number: 1024-new.

Expiration Date: September 30, 2001 (requested).

Type of Request: Request for new clearance.

Description of need: The National Park Service needs information to assess the potential socio-economic impacts of rehabilitation alternatives for Going-to-the-Sun Road.

Automated Data Collection: At the present time, there is no automated way to gather this information, since it includes asking local business managers their judgment about reliance on tourism, perceived business impacts during rehabilitation of Going-to-the-Sun Road, and recommended mitigation strategies.

Description of respondents: Respondents are businesses located in the Glacier National Park area, which includes Flathead, Glacier and Lake Counties in Montana and the communities of Waterton, Cardson, Fort McCloud, and Pincher Creek in Alberta, Canada.

Estimated average number of respondents: 5,340.

Estimated average number of responses: Each respondent will respond only one time, so the number of responses will be the same as the number of respondents, 5,340.

Estimated average burden hour per response: 15 minutes.

Frequency of Response: 1 time per respondent.

Estimated annual reporting burden: 1,335 hours.

Dated: April 2, 2001.
Betsy Chittenden,
Information Collection Clearance Officer, WASO Administrative Program Center, National Park Service.

[FR Doc. 01-10402 Filed 4-25-01; 8:45 am]

BILLING CODE 4310-70-M